DEPARTMENT OF DEFENSE

Department of the Navy

48 CFR Part 5242

[Docket ID: USN-2018-DARS-0022]

RIN 0703-AB14

Contract Administration

AGENCY: Department of the Navy, DoD.

ACTION: Final rule.

SUMMARY: This final rule removes the Department of the Navy (DON) regulation regarding contract administration. This rule contains DON supplemental guidance to the Federal Acquisition Regulation (FAR) and Defense Federal Acquisition Regulation Supplement (DFARS) which has been superseded by existing FAR and DFARS guidance. The rule is no longer used or valid and should be removed.

DATES: This rule is effective on February 11, 2019.

FOR FURTHER INFORMATION CONTACT: Denise Randolph, 703-614-9767, Denise.Randolph@navy.mil.

SUPPLEMENTARY INFORMATION: It has been determined that publication of this CFR part removal for public comment is impracticable, unnecessary, and contrary to public interest since it is removing obsolete information. The content of this part is duplicative of DFARS 242.7100 and DFARS Procedures, Guidance and Instruction (PGI) 242.7100 which contains guidance on Department of Defense policy on voluntary refunds for spares and other items. Additional guidance related to the acquisition of spare parts is contained in DFARS 217.7500 and DFARS PGI 217.7503. This rule removes the superseded regulations which are obsolete.

This rule is not significant under Executive Order (E.O.) 12866, “Regulatory Planning and Review,” therefore, the requirements of E.O. 13771, “Reducing Regulation and Controlling Regulatory Costs” do not apply.

List of Subjects in 48 CFR Part 5242

Government procurement.

For reasons set out in the preamble, and under the authority at 5 U.S.C. 301, 48 CFR part 5242 is removed and reserved.

PART 5242—[REMOVED AND RESERVED]

Dated: February 5, 2019.
M.S. Werner,
Lieutenant Commander, Judge Advocate General's Corps, U.S. Navy, Federal Register Liaison Officer.

[FR Doc. 2019-01765 Filed 2-8-19; 8:45 am]

BILLING CODE 3810-FF-P